DEPARTMENT OF THE INTERIOR

Office of Surface Mining Reclamation and Enforcement

[S1D1S SS08011000 SX066A000 67F 134S180110; S2D2S SS08011000 SX066A00 33F 13xs501520]

Notice of Proposed Information Collection; Request for Comments

AGENCY: Office of Surface Mining Reclamation and Enforcement, Department of the Interior.

ACTION: Notice and request for comments.

SUMMARY: In compliance with the Paperwork Reduction Act of 1995, the Office of Surface Mining Reclamation and Enforcement (OSMRE) is announcing its intention to request renewed approval for the collection of information for Underground Mining Permit Applications—Minimum Requirements for Reclamation and Operation Plans.

DATES: Comments on the proposed information collection must be received by November 3, 2014, to be assured of consideration.

ADDRESSES: Comments may be mailed to John Trelease, Office of Surface Mining Reclamation and Enforcement, 1951 Constitution Avenue NW., Room 203—SIB, Washington, DC 20240. Comments may also be submitted electronically to jtrelease@osmre.gov.

FOR FURTHER INFORMATION CONTACT: To receive a copy of the information collection request contact John Trelease, at (202) 208-2783, or by email at jtrelease@osmre.gov.

SUPPLEMENTARY INFORMATION: The Office of Management and Budget (OMB) regulations at 5 CFR part 1320, which implement provisions of the Paperwork Reduction Act of 1995 (Pub. L. 104-13), require that interested members of the public and affected agencies have an opportunity to comment on information collection and recordkeeping activities [see 5 CFR 1320.8 (d)]. This notice identifies an information collection that OSMRE will be submitting to OMB for renewed approval. OSMRE will seek a 3-year term of approval for the collection contained in 30 CFR Part 784.

An agency may not conduct or sponsor, and a person is not required to respond to a collection of information unless it displays a currently valid OMB control number. The OMB control number for Part 784 is 1029-0039, and may be found in OSMRE's regulations at 30 CFR 784.10. Responses are required to obtain a benefit for this collection.

OSMRE has revised burden estimates, where appropriate, to reflect current reporting levels or adjustments based on reestimates of burden or respondents and costs.

Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany OSMRE's submission of the information collection request to OMB.

This notice provides the public with 60 days in which to comment on the following information collection activity:

Title: 30 CFR Part 784—Underground Mining Permit Applications—Minimum Requirements for Reclamation and Operation Plans.

OMB Control Number: 1029-0039.

Summary: Sections 507(b), 508(a) and 516(b) of Public Law 95-87 require underground coal mine permit applicants to submit an operations and reclamation plan and establish performance standards for the mining operation. Information submitted is used by the regulatory authority to determine if the applicant can comply with the applicable performance and environmental standards required by the law.

Bureau Form Number: None.

Frequency of Collection: Once.

Description of Respondents: 45 underground coal mining permit applicants and 24 State regulatory authorities.

Total Annual Responses: 1,271.

Total Annual Burden Hours: 15,043.

Total Annual Non-wage Cost Burden: $378,982.

Dated: August 29, 2014.
John A. Trelease,
Acting Chief, Division of Regulatory Support.

[FR Doc. 2014-21088 Filed 9-3-14; 8:45 am]

BILLING CODE 4310-05-P